INTERNATIONAL TRADE COMMISSION

[Investigation No. 701-TA-431 (Preliminary)]

Drams and Dram Modules From Korea

Determination

On the basis of the record ¹ developed in the subject investigation, the United States International Trade Commission (Commission) determines,² pursuant to section 703(a) of the Tariff Act of 1930 (19 U.S.C. § 167b(a)) (the Act), that there is a reasonable indication that an industry in the United States is materially injured by reason of imports from Korea of dynamic random access memory semiconductors (DRAMs) and DRAM modules, provided for in subheading 8473.30.10 and 8542.21.80 of the Harmonized Tariff Schedule of the United States, that are alleged to be subsidized by the Government of Korea.

¹ The record is defined in sec. 207.2(f) of the Commission's Rules of Practice and Procedure (19 CFR § 207.2(f)).

² Commissioner Marcia E. Miller has recused herself from this investigation.

Pursuant to section 207.18 of the Commission's rules, the Commission also gives notice of the commencement of the final phase of its investigation. The Commission will issue a final phase notice of scheduling, which will be published in the Federal Register as provided in section 207.21 of the Commission's rules, upon notice from the Department of Commerce (Commerce) of an affirmative preliminary determination in the investigation under section 703(b) of the Act, or, if the preliminary determination is negative, upon notice of an affirmative final determination in that investigation under section 705(a) of the Act. Parties that field entries of appearance in the preliminary phase of the investigation need not enter a separate appearance for the final phase of the investigation. Industrial users, and, if the merchandise under investigation is sold at the retail level, representative consumer organizations have the right to appear as parties in Commission antidumping and countervailing duty investigation. The Secretary will prepare a public service list containing the names and addresses of all persons, or their representatives, who are parties to the investigation.

Background

On November 1, 2002, a petition was filed with the Commission and Commerce by Micron Technology, Inc., Boise, ID, alleging that an industry in the United States is materially injured or threatened with material injury by reason of subsidized imports of DRAMs and DRAM modules from Korea. Accordingly, effective November 1, 2002, the Commission instituted countervailing duty investigation No. 701-ATA-431 (Preliminary).

Notice of the institution of the Commission's investigation and of a public conference to be held in connection therewith was given by posting copies of the notice in the Office of the Secretary, U.S. International Trade Commission, Washington, DC, and by publishing the notice in the Federal Register of November 8, 2002 (67 FR 68176). The conference was held in Washington, DC, on November 22, 2002, and all persons who requested the opportunity were permitted to appear in person or by counsel.

The Commission transmitted its determination in this investigation to the Secretary of Commerce on December 16, 2002. The views of the Commission are contained in USITIC Publication 3569 (December 2002), entitled DRAMs and DRAM Models from Korea: Investigation No. 701-TA-431 (Preliminary).

Issued: December 20, 2002.
By order of the Commission.
Marilyn R. Abbott,
Secretary to the Commission.

[FR Doc. 02-32708 Filed 12-26-02; 8:45 am]

BILLING CODE 7020-02-P